DEPARTMENT OF AGRICULTURE

National Agricultural Statistics Service

Notice of Intent To Seek Approval To Reinstate an Information Collection

AGENCY: National Agricultural Statistics Service, USDA.

ACTION: Notice and request for comments.

SUMMARY: In accordance with the Paperwork Reduction Act of 1995, this notice announces the intention of the National Agricultural Statistics Service (NASS) to seek reinstatement of an information collection, the 2027 Census of Agriculture.

DATES: Comments on this notice must be received by March 16, 2026 to be assured of consideration.

ADDRESSES: You may submit comments, identified by docket number 0535-0226, by any of the following methods:

• Email: ombofficer@nass.usda.gov. Include docket number above in the subject line of the message.

• E-fax: (855) 838-6382.

• Mail: Mail any paper, disk, or CD-ROM submissions to: NASS OMB Clearance Officer, U.S. Department of Agriculture, Room 5336 South Building, 1400 Independence Avenue SW, Washington, DC 20250-2024.

• Hand Delivery/Courier: Hand deliver to: NASS OMB Clearance Officer, U.S. Department of Agriculture, Room 5336 South Building, 1400 Independence Avenue SW, Washington, DC 20250-2024.

FOR FURTHER INFORMATION CONTACT: Jody R. McDaniel, Associate Administrator, National Agricultural Statistics Service, U.S. Department of Agriculture, (202) 720-2707. Copies of this information collection and related instructions can be obtained without charge from NASS OMB Clearance Officer, at (202) 720-2206 or at ombofficer@nass.usda.gov.

SUPPLEMENTARY INFORMATION:

Title: 2027 Census of Agriculture.

OMB Control Number: 0535-0226.

Expiration Date of Previous Approval: September 30, 2024.

Type of Request: Intent to Seek Reinstatement of an Information Collection.

Abstract: The Census of Agriculture is the primary source of statistics concerning the nation's agricultural industry. It provides the only basis of consistent, comparable data for each county, county equivalent, and state in the United States and its outlying insular areas. The census is conducted every 5 years, the last one being for the reference year of 2022. The 2027 Census of Agriculture will again cover all agricultural operations in the 50 states, Puerto Rico, Guam, the U.S. Virgin Islands, the Commonwealth of Northern Mariana Islands (CNMI), and American Samoa which meet the census definition for a farm. For the 50 states, Guam, and CNMI, a farm is any place that produced and sold, or normally would produce and sell, $1,000 or more of agricultural products during the census reference year. For Puerto Rico and the U.S. Virgin Islands it is any place with $500 in production and sales. American Samoa is not limited by a threshold for production or sales and includes items grown for home consumption.

Data collection will primarily be conducted through a combination of mail, internet, and follow-up by phone or in-person for selected nonrespondents. In certain locations, data will be collected exclusively through direct enumeration methods.

Authority: The Census of Agriculture is required by law under the Census of Agriculture Act of 1997 (Pub. L. 105-113, codified at 7 U.S.C. 2204g), which mandates that the Secretary of Agriculture conduct the census every five years. Response to the screening form, the Census of Agriculture, and any related special study surveys is mandatory. Special study surveys will be submitted under separate OMB approvals.

Individually identifiable data collected under this authority are governed by Section 1770 of the Food Security Act of 1985 as amended, 7 U.S.C. 2276, which requires USDA to afford strict confidentiality to non-aggregated data provided by respondents. This Notice is submitted in accordance with the Paperwork Reduction Act of 1995, Public Law 104-13 (44 U.S.C.3501, et seq.) and Office of Management and Budget regulations at 5 CFR part 1320.

All NASS employees and NASS contractors must also fully comply with all provisions of the Confidential Information Protection and Statistical Efficiency Act (CIPSEA) of 2018, Title III of Public Law 115-435, codified in 44 U.S.C. Ch. 35. CIPSEA supports NASS's pledge of confidentiality to all respondents and facilitates the agency's efforts to reduce burden by supporting statistical activities of collaborative agencies through designation of NASS agents, subject to the limitations and penalties described in CIPSEA.

The law guarantees farm operators that their individual information will be kept confidential. NASS uses the information only for statistical purposes and publishes only tabulated total data. These data are used by Congress when developing or changing farm programs. Many national and state programs are designed or allocated based on census data, i.e., soil conservation projects, funds for cooperative extension programs, and research funding. Private industry uses the data to provide more effective production and distribution systems for the agricultural community.

Estimate of Burden: The estimated public reporting burden for this information collection varies depending on the form type. On average, it may range from a few minutes for brief responses to nearly an hour for more detailed forms. Additional time is included to review instructions, cover letters, and reminder materials.

Respondents: Farm and ranch operators.

Estimated Number of Respondents: 4,050,000.

Estimated Total Annual Burden on Respondents: 2,900,000 hours.

Comments: Comments are invited on: (a) whether the proposed collection of information is necessary for the proper performance of the functions of the agency, including whether the information will have practical utility; (b) the accuracy of the agency's estimate of the burden of the proposed collection of information including the validity of the methodology and assumptions used; (c) ways to enhance the quality, utility, and clarity of the information to be collected; and (d) ways to minimize the burden of the collection of information on those who are to respond, including through the use of appropriate automated, electronic, mechanical, technological or other forms of information technology collection methods.

All responses to this notice will become a matter of public record and be summarized in the request for OMB approval.

Signed at Washington, DC, December 11, 2025.
Jody R. McDaniel,
Associate Administrator.

[FR Doc. 2026-00540 Filed 1-13-26; 8:45 am]

BILLING CODE 3410-20-P